DEPARTMENT OF ENERGY

Federal Energy Regulatory Commission

[ Docket No. EL09-41-000]

York Generation Company LLC, Complainant v. PJM Interconnection, LLC, Respondent Notice of Complaint

March 18, 2009.

Take notice that on March 17, 2009, pursuant to section 206 of the Rules and Practice and Procedure of the Federal Energy Regulatory Commission (Commission), 18 CFR 385.206 (2008), York Generation Company LLC (Complainant) filed a formal complaint against PJM Interconnection, LLC. (Respondent) alleging that it is unjust and unreasonable for the Respondent to require the Complainant to upgrade an existing substation in accordance with FirstEnergy's Requirement for Transmission Connected Facilities standard as a condition to restoring 10MW of Capacity Interconnection Rights previously granted to the 52.3 MW (nameplate) generating facility owned by the Complainant.

The Complainant certifies that copies of the complaint were served simultaneously with its filing on the contacts for the Respondent on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 pm Eastern Time on April 6, 2009.

Kimberly D. Bose,
Secretary.

[FR Doc. E9-6493 Filed 3-24-09; 8:45 am]

BILLING CODE